DEPARTMENT OF ENERGY

Federal Energy Regulatory Commission

[Docket No. EC04-25-000, et al.]

MEP Pleasant Hill Operating, LLC, et al.; Electric Rate and Corporate Filings

November 25, 2003.

The following filings have been made with the Commission. The filings are listed in ascending order within each docket classification.

1. MEP Pleasant Hill Operating, LLC; MEP Investments, LLC; Aquila Merchant Services, Inc.; Calpine Corporation; Calpine Energy Services, L.P.

[Docket No. EC04-25-000]

Take notice that on November 19, 2003, MEP Pleasant Hill Operating, LLC (MEP Operating), MEP Investments, LLC (MEP Investments), Aquila Merchant Services, Inc. (AMS), Calpine Corporation (Calpine), and Calpine Energy Services, L.P. (CES) (collectively the Applicants), filed with the Federal Energy Regulatory Commission (Commission) an application for approval pursuant to Section 203 of the Federal Power Act and Section 33 of the Commission's regulations for the Applicants' disposition of (1) MEP Investments' interest in MEP Pleasant Hill, LLC to Calpine or its affiliate, and (2) AMS's interests as seller under certain power sales agreements to CES.

Applicants state that the filing has been served on all state public utilities commission in affected states, specifically Missouri and Kansas.

Comment Date: December 10, 2003.

2. Midwest Independent Transmission System Operator, Inc.

[Docket No. EL03-38-002]

Take notice that on November 19, 2003, the Midwest Independent Transmission System Operator, Inc. (Midwest ISO) submitted for filing amended and executed Service Agreements for Long-Term Firm Transmission Service between the Midwest ISO and (1) Cargill Power Markets, LLC (Cargill) and (2) Conectiv Energy Supply, Inc. (Conectiv), pursuant to the Commission's October 24, 2003 Letter Order issued in Docket No. EL03-38-001.

The Midwest ISO states that it has served a copy of its filing on each person whose name is listed on the official service list maintained by the Secretary in this proceeding. The Midwest ISO also states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at www.midwestiso.org under the heading “Filings to FERC” for other interested parties in this matter. The Midwest ISO states that it will provide hard copies to any interested parties upon request.

Comment Date: December 10, 2003.

3. CPV Milford, LLC

[Docket No. EG04-20-000]

On November 24, 2003, CPV Milford, LLC (CPV Milford) filed an application with the Federal Energy Regulatory Commission (Commission) for determination of exempt wholesale generator status pursuant to Section 32 of the Public Utility Holding Company Act of 1935, as amended, and Part 365 of the Commission's regulations.

CPV Milford, a Delaware limited liability company, states that it will be engaged directly and exclusively in the business of operating all or part of one or more eligible facilities located in Milford, Connecticut. CPV Milford further states that the eligible facilities consist of an approximate 544 MW natural gas fired electric generation plant and related interconnection facilities and the output of the eligible facilities will be sold at wholesale.

Comment Date: December 12, 2003.

4. Quark Power L.L.C.

[Docket No. ER97-2374-014]

Take notice that on November 19, 2003, Quark Power L.L.C. (Quark) tendered for filing notification of a change in status reflecting a departure from the characteristics that the Commission relied upon in approving market-based pricing for Quark.

Comment Date: December 10, 2003.

5. Green Power Partners I LLC

[Docket No. ER04-153-001]

Take notice that on November 19, 2003, Green Power Partners I LLC (Green Power) submitted for filing with the Federal Energy Regulatory Commission an amendment to its November 3, 2003 filing requesting acceptance of a rate schedule pursuant to Section 205 of the Federal Power Act and Section 35.12 of the regulations of the Commission. Green Power requests that the rate schedule attached to the amended filing be designated as Green Power Rate Schedule FERC No. 3, and become effective on the date, if any, the Green Power's wind generation facility is no longer a qualifying facility.

Comment Date: December 10, 2003.

6. Xcel Energy Services Inc.

[Docket No. ER04-201-000]

Take notice that on November 19, 2003 Xcel Energy Services, Inc. (XES), on behalf of Public Service Company of Colorado (PSC), submitted for filing a Notice of Cancellation of a Master Power Purchase and Sale Agreement between Public Service Company of Colorado and the City of Glendale. XES requests that the cancellation become effective as of the date of this filing.

Comment Date: December 10, 2003.

7. Tucson Electric Power Company

[Docket No. ER04-204-000]

Take notice that on November 20, 2003, Tucson Electric Power Company (TEP) filed an Interconnection and Operating Agreement, as amended by Amendment No. 1 to Interconnection and Operating Agreement, between Springerville Unit 3 Holding LLC and TEP (collectively, Interconnection Agreement) under TEP's Open Access Transmission Tariff. TEP requests an effective date of October 21, 2003 for the Interconnection Agreement.

TEP states that it has served a copy of the filing on Springerville Unit 3 Holding LLC.

Comment Date: December 10, 2003.

8. Public Service Company of New Hampshire

[Docket No. ER04-205-000]

Take notice that on November 18, 2003, Public Service Company of New Hampshire (PSNH) tendered for filing Rate Schedule FERC No. 187, a Delivery Services and Interconnection Agreement with Vermont between PSNH and the New Hampshire Electric Cooperative, Inc. (NHEC). PSNH requests an effective date of January 1, 2004.

PSNH states that a copy of this filing was mailed to NHEC, the Office of Attorney General for the State of New Hampshire, the Executive Director of the New Hampshire Public Utilities Commission, and the Office of Consumer Advocate for the State of New Hampshire.

Comment Date: December 10, 2003.

9. Western Systems Power Pool, Inc.

[Docket No. ER04-206-000]

Take notice that on November 19, 2003, the Western Systems Power Pool, Inc. (WSPP) submitted changes to the WSPP Agreement intended to update or clarify certain provisions of the Agreement. The WSPP seeks an effective date of February 1, 2004 for these changes.

WSPP states that copies of the transmittal letter have been served on all state commissions within the United States. NSPP states that the filing has been posted on the WSPP homepage (www.wspp.org) thereby providing notice to all WSPP members.

Comment Date: December 10, 2003.

10. Entergy Services, Inc.

[Docket No. ER04-207-000]

Take notice that on November 19, 2003, Entergy Services, Inc., (Entergy) on behalf of the Entergy Operating Companies, tendered for filing proposed revisions to Section 11 of its Open Access Transmission Tariff (OATT). Entergy states that it specifically, as required by Entergy Services, Inc., 104 FERC ¶ 61,329 (2003), refiled Section 11.3.3, as well as related portions of Sections 11.1 and 11.3.5 of its OATT, in order to clarify when Entergy may require an existing transmission customer to increase previously provided financial assurances which have become insufficient with respect to their ability to protect Entergy against the risk of non-payment because of a transmission customer's increased purchases of transmission services. Entergy requests an effective date of November 20, 2003.

Comment Date: December 10, 2003.

11. Citigroup Energy Inc.

[ Docket No. ER04-208-000]

On November 19, 2003, Citigroup Energy Inc. (CEI) petitioned the Commission for an order: (1) Accepting CEI's proposed FERC rate schedule for market-based rates; (2) granting waiver of certain requirements under Subparts B and C of Part 35 of the regulations; (3) granting the blanket approvals normally accorded sellers permitted to sell at market-based rates; and (4) granting waiver of the 60-day notice period.

Comment Date: December 10, 2003.

12. Old Dominion Electric Cooperative

[Docket No. ER04-209-000]

On November 19, 2003, Old Dominion Electric Cooperative (Old Dominion) filed an application under Section 205 of the Federal Power Act and Section 35.13 of the Commission's Rules and Regulations for approval of a change in the formula rate under its FERC Electric Tariff, Volume No. 1 (Tariff), and various administrative, non-substantive changes to the Tariff. Old Dominion requests an effective date of November 30, 2003.

Old Dominion states that the filing was served upon each of its member cooperatives and the public service commissions in the Commonwealth of Virginia and the states of Delaware and Maryland.

Comment Date: December 3, 2003.

13. WPS Canada Generation, Inc.

[Docket No. ER04-210-000]

Take notice that on November 19, 2003, WPS Canada Generation, Inc. (WPS Canada) filed Original Sheet 2 for its Rate Schedule FERC Nos. 2 and 3, which provide for the recovery of Reactive Supply and Voltage Control from Generation Sources Service. WPS Canada requests an effective date of January 19, 2004.

WPS Canada states that copies of the filing were served upon the Maine Public Service Company, the Northern Maine Independent System Administrator, Inc., and the official service list for Docket Nos. ER03-689-000, et al.

Comment Date: December 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00420 Filed 12-2-03; 8:45 am]

BILLING CODE 6717-01-P